DEPARTMENT OF ENERGY

Federal Energy Regulatory Commission

[Docket No. CP01-259-000]

Ohio Valley Hub, LLC; Notice of Application

May 10, 2001.

Take notice that on May 1, 2001, Ohio Valley Hub, LLC (OVH), 19 Northwest Fourth Street, Suite 600, Evansville, Indiana 47708, filed in Docket No. CP01-259-000 an application pursuant to Section 1(c) of the Natural Gas Act (NGA) and the Commission's Rules and Regulations, for a declaration stating that OVH qualifies for Hinshaw status, all as more fully set forth in the application which is on file with the Commission and open to public inspection. The filing may be viewed on the web at http://www.ferc.fed.us/online/rims.htm (call 202-208-2222 for assistance).

Specifically, OVH is asking the Commission to declare it as qualifying for Hinshaw status under Section 1(c) of the NGA and that neither OVH's construction, ownership and operation of the facilities located in Knox County, Indiana, nor the initial services related thereof will subject OVH or any portion of its facilities to the jurisdiction of the Commission under the NGA.

Any questions regarding the application should be directed to Mark W. Head, General Manager, Ohio Valley Hub, LLC, 19 Northwest Fourth Street, Suite 600, Evansville, Indiana 47708, call (812) 465-5231.

There are two ways to become involved in the Commission's review of this project. First, any person wishing to obtain legal status by becoming a party to the proceedings for this project should, on or before May 31, 2001, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Comments, protests and interventions may be filed electronically via the internet is lieu of paper. See, 18 CFR 385.2001(a)(1)(iii) and the instructions on the Commission's web site at http://www.ferc.fed.us/efi/doorbell.htm.

If the Commission decides to set the application for a formal hearing before an Administrative Law Judge, the Commission will issue another notice describing that process. At the end of the Commission's review process, a final Commission order approving or denying a certificate will be issued.

David P. Boergers,
Secretary.

[FR Doc. 01-12285 Filed 5-15-01; 8:45 am]

BILLING CODE 6717-01-M